COMMODITY FUTURES TRADING COMMISSION

Agency Information Collection Activities Under OMB Review

AGENCY: Commodity Futures Trading Commission.

ACTION: Notice.

SUMMARY: In compliance with the Paperwork Reduction Act of 1995 (PRA), this notice announces that the Information Collection Request (ICR) abstracted below has been forwarded to the Office of Information and Regulatory Affairs (OIRA), of the Office of Management and Budget (OMB), for review and comment. The ICR describes the nature of the information collection and its expected costs and burden.

DATES: Comments must be submitted on or before January 14, 2026.

ADDRESSES: Written comments and recommendations for the proposed information collection should be submitted within 30 days of this notice's publication to OIRA, at https://www.reginfo.gov/public/do/PRAMain. Please find this particular information collection by selecting “Currently under 30-day Review—Open for Public Comments” or by using the website's search function. Comments can be entered electronically by clicking on the “comment” button next to the information collection on the “OIRA Information Collections Under Review” page, or the “View ICR—Agency Submission” page. A copy of the supporting statement for the collection of information discussed herein may be obtained by visiting https://www.reginfo.gov/public/do/PRAMain.

In addition to the submission of comments to https://Reginfo.gov as indicated above, a copy of all comments submitted to OIRA may also be submitted to the Commodity Futures Trading Commission (the “Commission” or “CFTC”) by clicking on the “Submit Comment” box next to the descriptive entry for “Survey of the Costs of Bank Secrecy Act/Anti-Money Laundering Compliance (OMB Control No. 3038-XXXX), at https://comments.cftc.gov/FederalRegister/PublicInfo.aspx.

Or by either of the following methods:

• Mail: Christopher Kirkpatrick, Secretary of the Commission, Commodity Futures Trading Commission, Three Lafayette Centre, 1155 21st Street NW, Washington, DC 20581.

• Hand Delivery/Courier: Same as Mail above.

All comments must be submitted in English, or if not, accompanied by an English translation. Comments submitted to the Commission should include only information that you wish to make available publicly. If you wish the Commission to consider information that you believe is exempt from disclosure under the Freedom of Information Act, a petition for confidential treatment of the exempt information may be submitted according to the procedures established in § 145.9 of the Commission's regulations.¹ The Commission reserves the right, but shall have no obligation, to review, pre-screen, filter, redact, refuse or remove any or all of your submission from https://www.cftc.gov that it may deem to be inappropriate for publication, such as obscene language. All submissions that have been redacted or removed that contain comments on the merits of the ICR will be retained in the public comment file and will be considered as required under the Administrative Procedure Act and other applicable laws, and may be accessible under the Freedom of Information Act.

¹ 17 CFR 145.9.

FOR FURTHER INFORMATION CONTACT: Adam Schwartzman, Attorney Advisor, Market Participant's Division, Commodity Futures Trading Commission, (202) 340-7236; email: aschwartzman@cftc.gov.

SUPPLEMENTARY INFORMATION:

Title: Survey of the Costs of Bank Secrecy Act/Anti-Money Laundering Compliance (OMB Control No. 3038-XXXX). This is a request for approval of a new information collection.

Abstract: The proposed survey seeks to gather information on the direct costs incurred by CFTC-registered futures commission merchants and introducing brokers in complying with the Bank Secrecy Act (BSA) and related Anti-Money Laundering (AML) requirements. Responses will help the agency understand the financial impact of these regulations and may be used to shape deregulatory proposals consistent with the Executive Orders of the Trump administration.]

An agency may not conduct or sponsor, and a person is not required to respond to, a collection of information unless it displays a currently valid OMB control number. On August 5, 2025, the Commission published in the Federal Register notice of the proposed revision of this information collection and provided 60 days for public comment on the proposed extension, 90 FR 37473 (“60-Day Notice”). The Commission received no relevant comments.

Burden Statement: The estimated hour burden for this collection is calculated as follows:

Estimated number of respondents: 951.²

² As of November 30, 2025, as reported by the National Futures Association, the total number of CFTC-registered futures commission merchants and introducing brokers is 951. This represents a decrease of five respondents from the estimate included in the 60-Day FRN. The Commission's burden estimates have been updated accordingly.

Estimated number of reports per respondent: 1.

Average number of hours per report: 2.

Estimated total annual burden hours: 1,902.

There are no capital costs or operating and maintenance costs associated with this collection.

(Authority: 44 U.S.C. 3501 et seq.)

Dated: December 11, 2025.
Robert Sidman,
Deputy Secretary of the Commission.

[FR Doc. 2025-22809 Filed 12-12-25; 8:45 am]

BILLING CODE 6351-01-P